OFFICE OF PERSONNEL MANAGEMENT

Submission for OMB Review; Comment Request for Review of a Revised Information Collection: INV 41, 42, 43 and 44

AGENCY: Office of Personnel Management.

ACTION: Notice.

SUMMARY: In accordance with the Paperwork Reduction Act of 1995 (Public Law 104-13, May 22, 1995), this notice announces that the Office of Personnel Management (OPM) has submitted to the Office of Management and Budget (OMB) a request for reclearance of revised information collection forms INV 41, 42, 43 and 44. OPM uses these forms to request information when conducting employment investigations. The investigations are conducted to determine suitability for Federal employment or the ability to hold a security clearance as prescribed in Executive Orders 10450, 12968, and 10577 (5 CFR part V), and 5 U.S.C. 3301.

INV Form 41, Investigative Request for Employment Data and Supervisor Information, is sent to employers and supervisors. INV Form 42, Investigative Request for Personal Information, is sent to references. INV Form 43, Investigative Request for Educational Registrar and Dean of Students Record Data, is sent to educational institutions. INV Form 44, Investigative Request for Law Enforcement Data, is sent to local law enforcement agencies.

Based on current usage, OPM estimates that 1,962,947 individuals will respond annually to the forms (902,204 to INV 41; 494,728 to INV Form 42; 135,304 to INV 43; and 430,711 to INV 44). We believe the forms require an average of 5 minutes to complete. The total estimated public burden is 162,924 hours.

To obtain copies of this proposal, please contact Mary Beth Smith-Toomey at (202) 606-8358 or FAX (202) 418-3251 or by e-mail to mbtoomey@opm.gov. Please include a mailing address with your request.

DATES: Comments on this proposal should be received on or before January 7, 2002.

ADDRESSES: Send or deliver written comments to:

Richard A. Ferris, Associate Director, Investigations Service, U.S. Office of Personnel Management, 1900 E Street, NW Room 5416, Washington, DC 20415-4000; and

Joseph Lackey, OPM Desk Officer, Office of Information and Regulatory Affairs, Office of Management and Budget, Room 10235, Washington, DC 20503.

FOR FURTHER INFORMATION CONTACT: Rasheedah I. Ahmad, Program Analyst, Investigations Service, Phone (202) 606-7983, FAX (202) 606-2390.

Office of Personnel Management.
Kay Coles James,
Director.

[FR Doc. 01-30247 Filed 12-5-01; 8:45 am]

BILLING CODE 6325-40-P